DEPARTMENT OF EDUCATION

Submission for OMB Review; Comment Request

Correction

In notice document E4-3475 beginning on page 70662 in the issue of Tuesday, December 7, 2004, make the following correction:

On page 70662, in the third column, in the DATES section, in the third line, “2004” should read “2005”.

[FR Doc. Z4-3475 Filed 12-9-04; 8:45 am]

BILLING CODE 1505-01-D